INTERNATIONAL TRADE COMMISSION

[Investigation No. TPA-105-008]

Economic Impact of Trade Agreements Implemented Under Trade Authorities Procedures, 2021 Update; Notice of Institution of Investigation and Schedule of a Public Hearing

AGENCY: U.S. International Trade Commission.

ACTION: Notice of investigation and scheduling of a public hearing.

SUMMARY: The Commission has instituted Investigation No. TPA-105-008, Economic Impact of Trade Agreements Implemented Under Trade Authorities Procedures, 2021 Report, for the purpose of preparing the second of two reports required by section 105(f)(2) of the Bipartisan Congressional Trade Priorities and Accountability Act of 2015. Section 105(f)(2) requires that the Commission submit to the House Committee on Ways and Means and the Senate Committee on Finance two reports, one by June 29, 2016, and a second by June 29, 2021, on the economic impact on the United States of all trade agreements with respect to which Congress has enacted an implementing bill under trade authorities procedures since January 1, 1984.

DATES:

September 21, 2020: Deadline for filing requests to appear at the public hearing.

September 25, 2020: Deadline for filing prehearing briefs and statements.

October 6, 2020: Public hearing.

October 23, 2020: Deadline for filing post-hearing briefs and statements.

November 6, 2020: Deadline for filing all other written submissions.

June 29, 2021: Transmittal of Commission report to the Committees.

ADDRESSES: All Commission offices, including the Commission's hearing rooms, are located in the U.S. International Trade Commission Building, 500 E Street SW, Washington, DC. All written submissions should be submitted electronically and addressed to the Secretary, U.S. International Trade Commission, 500 E Street SW, Washington, DC 20436. The public record for this investigation may be viewed on the Commission's electronic docket (EDIS) at https://edis.usitc.gov.

FOR FURTHER INFORMATION CONTACT: Project Leaders Tamara Gurevich (202-205-3403 or tamara.gurevich@usitc.gov) or David Guberman (202-708-1396 or david.guberman@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION: Background: On June 29, 2015, the President signed the Bipartisan Congressional Trade Priorities and Accountability Act of 2015 (TPA). Section 105(f)(2) of the Act (19 U.S.C. 4204(f)(2)) requires the Commission to submit two reports to the House Committee on Ways and Means and Senate Committee on Finance, one in 2016 and a second not later than mid-2021, on the economic impact of trade agreements implemented under trade authorities procedures since 1984. Section 105(f)(2) provides as follows:

(2) REPORT ON IMPACT OF TRADE PROMOTION AUTHORITY.—Not later than one year after the date of the enactment of this Act, and not later than 5 years thereafter, the United States International Trade Commission shall submit to the Committee on Ways and Means of the House of Representatives and the Committee on Finance of the Senate a report on the economic impact on the United States of all trade agreements with respect to which Congress has enacted an implementing bill under trade authorities procedures since January 1, 1984.

The Commission submitted its first report on June 29, 2016 (Inv. No. 332-555, Pub. No. 4614) and will submit the second report by June 29, 2021.

For purposes of this report the Commission considers the trade agreements covered to include the Uruguay Round Agreements, the North American Free Trade Agreement (NAFTA), the United States-Mexico-Canada Agreement (USMCA), and U.S. free trade agreements with Australia, Bahrain, Canada, Chile, Colombia, the Dominican Republic and five Central American countries (Costa Rica, El Salvador, Guatemala, Honduras, and Nicaragua), Israel, Jordan, Korea, Morocco, Oman, Panama, Peru, and Singapore.

The Commission has instituted an investigation under section 105(f)(2) of the Bipartisan Congressional Trade Priorities and Accountability Act of 2015 for the purpose of preparing this report and also for the purpose of assisting the public in the filing and inspection of documents and also to make the report more readily accessible to the public through the Commission's website.

Public Hearing: A public hearing in connection with this investigation will be held beginning at 9:30 a.m. on October 6, 2020. Information about the place and form of the hearing, including about how to participate in or view the hearing, will be posted on the Commission's website at (https://usitc.gov/research_and_analysis/what_we_are_working_on.htm). Once on that web page, scroll down to the entry for investigation No. TPA-105-008, Economic Impact of Trade Agreements Implemented Under Trade Authorities Procedures, 2021 Report, and click on the link to “hearing instructions.” Interested parties should check the Commission's website periodically for updates.

Requests to appear at the public hearing should be filed with the Secretary, no later than 5:15 p.m., September 21, 2020 in accordance with the requirements in the “Submissions” section below. All pre-hearing briefs and statements should be filed no later than 5:15 p.m., September 25, 2020; and all post-hearing briefs and statements should be filed not later than 5:15 p.m., October 23, 2020. In the event that, as of the close of business on September 21, 2020, no witnesses are scheduled to appear at the hearing, the hearing will be canceled. Any person interested in attending the hearing as an observer or nonparticipant should contact the Office of the Secretary at 202-205-2000 after September 21, 2020, for information concerning whether the hearing will be held.

Written Submissions: In lieu of or in addition to participating in the hearing, interested parties are invited to file written submissions concerning this investigation. All written submissions should be addressed to the Secretary, and should be received not later than 5:15 p.m., November 6, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

Any confidential business information received by the Commission in this investigation and used in preparing this report will not be published in a manner that would reveal the operations of the firm supplying the information.

Summaries of Written Submissions: Persons wishing to have a summary of their position included in the report should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: June 11, 2020.
Lisa Barton,
Secretary to the Commission.

[FR Doc. 2020-12995 Filed 6-16-20; 8:45 am]

BILLING CODE 7020-02-P